DEPARTMENT OF ENERGY

Federal Energy Regulatory Commission

[Docket No. RM19-12-000]

Revisions to the Filing Process for Commission Forms; Notice of Eforms Updates, Termination of Visual Foxpro Filings, and Extension of Filing Deadlines

As provided for in the July 17, 2020 Order on Technical Conference, notice is hereby given that on April 15, 2021, the eXtensible Business Reporting Language (XBRL) taxonomies, validation rules, and rendering files needed to file FERC Form Nos. 1, 1-F, 3-Q (electric), 2, 2-A, 3-Q (natural gas), 6, 6-Q (oil), 60, and 714 (collectively, Commission Forms),¹ will be updated to Release 1.5.² The updated taxonomies will be available in the Yeti viewer at https://xbrlview.ferc.gov/.³ The updated validation rules and rendering files will be available at https://www.ferc.gov/ferc-online/ferc-online/filing-forms/eforms-refresh. The eForms system will incorporate the updated (Release 1.5) taxonomies, validation rules, and rendering files and use them to process filers' test-only submissions in May 2021. In addition, as noted below, the deadlines for submitting the third quarter 2021 filings of FERC Form Nos. 3-Q (electric), 3-Q (natural gas), and 6-Q (oil) are extended until December 31, 2021.

¹ The Commission adopted the XBRL process for filing the Commission Forms in Order No. 859. Revisions to the Filing Process for Comm'n Forms, Order No. 859, 167 FERC ¶ 61,241 (2019).

² The Commission adopted the final XBRL taxonomy, protocols, implementation guide, and other supporting documents, and established the implementation schedule for filing the Commission Forms following a technical conference in this proceeding. Revisions to the Filing Process for Comm'n Forms, 172 FERC ¶ 61,059 (2020). The Commission also stated that technical updates, such as the updates referenced here, will not take effect until at least 60 days after issuance of a notice from the Office of the Secretary. Id. P 26.

³ These technical updates incorporate feedback on the taxonomies submitted by interested parties through various means, including the Yeti review tool.

The updated (Release 1.5) taxonomies, validation rules, and rendering files will become effective beginning with the third quarter 2021 filings of FERC Form Nos. 3-Q (electric), 3-Q (natural gas), and 6-Q (oil). The current Visual FoxPro-based system for filing Commission Forms will no longer be available for submissions after September 30, 2021. Therefore, all subsequent filings and any future refilings, i.e., all post-September 30, 2021 filings and refilings, of the FERC Form Nos. 3-Q (electric), 3-Q (natural gas), and 6-Q (oil) and the other Commission Forms (i.e., FERC Form Nos. 1, 1-F, 2, 2-A, 6, 60, and 714) must be made using the applicable taxonomies, validation rules, and rendering files for the relevant form, as indicated on the eForms portal.

To provide the additional time necessary to complete the transition to an XBRL-based system, the deadlines for the third quarter filings of the FERC Form Nos. 3-Q (electric), 3-Q (natural gas), and 6-Q (oil) are hereby extended.

Accordingly, the deadline for filing the FERC Form No. 3-Q (electric) for Major Electric Utilities, Licensees, and Others for the third quarter of 2021 is extended from November 29, 2021 until December 31, 2021. The deadline for filing the FERC Form No. 3-Q (electric) for Non-major Public Utilities and Licensees for the third quarter of 2021 is extended from December 9, 2021 until December 31, 2021.

In addition, the deadline for filing the FERC Form No. 3-Q (natural gas) for Major Natural Gas Companies for the third quarter of 2021 is extended from November 29, 2021 until December 31, 2021. The deadline for filing the FERC Form No. 3-Q (natural gas) for Non-major Gas Companies for the third quarter of 2021 is extended from December 9, 2021 until December 31, 2021.

Finally, the deadline for filing the FERC Form No. 6-Q (oil) for Oil Pipeline Companies for the third quarter of 2021 is extended from December 9, 2021 until December 31, 2021.

Dated: March 23, 2021.
Nathaniel J. Davis, Sr.,
Deputy Secretary.

[FR Doc. 2021-06477 Filed 3-29-21; 8:45 am]

BILLING CODE 6717-01-P